DEPARTMENT OF ENERGY

Federal Energy Regulatory Commission

[ Docket Nos. CP07-52-000; CP07-53-000; CP07-53-001]

Downeast LNG, Inc., Downeast Pipeline, LLC.; Notice of Availability of the Supplemental Draft Environmental Impact Statement for the Proposed Downeast LNG Project

The staff of the Federal Energy Regulatory Commission (FERC or Commission) has prepared a Supplemental Draft Environmental Impact Statement (EIS) for the Downeast LNG Project, proposed by Downeast LNG, Inc. and Downeast Pipeline, LLC (hereafter collectively referred to as Downeast) in the above-referenced dockets. Downeast requests authorization to construct and operate a new liquefied natural gas (LNG) import terminal, natural gas pipeline, and associated facilities in Washington County, Maine. The Downeast LNG Project would provide about 500 million cubic feet per day of imported natural gas to the New England region.

The Commission previously issued a draft EIS for this project in May 2009. Since then the U.S. Department of Transportation (DOT) has issued clarifications on its Title 49 of the Code of Federal Regulations (CFR), Part 193, which are relevant to the proposed Downeast LNG Project. In October 2011, DOT issued final decisions approving specific alternative models for use in complying with these federal safety standards. Downeast filed information with the FERC as required by the latest DOT interpretations in October and November 2012. In 2010, the U.S. Coast Guard (Coast Guard) revised its regulations in Title 33, CFR, Part 127 on the process used to examine the suitability of the waterway for LNG carrier transits. In 2011, the Coast Guard also updated Navigation and Vessel Inspection Circular 01-2011, “Guidance Related to Waterfront LNG Facilities.” In 2012, the U.S. Department of Energy (DOE) released the report “Liquefied Natural Gas Safety Research Report to Congress” detailing the results of research conducted by Sandia National Laboratories on intentional breaches of LNG carrier cargo tanks and the resulting LNG spills on water.

Based on the new information from the DOT, DOE, Coast Guard, and Downeast, FERC staff revised the reliability and safety analysis of the LNG terminal and carrier transit that was presented in the May 2009 draft EIS and prepared the Supplemental draft EIS. This document presents FERC staff's: technical review of the proposed facility's preliminary design; siting analysis, prepared with the cooperation of the DOT; and conclusions on the waterway suitability based on input from the Coast Guard. The DOT participated as a cooperating agency in the preparation of the Supplemental draft EIS.

We ¹ mailed copies of the Supplemental draft EIS to federal, state, and local government representatives and agencies; elected officials; environmental and public interest groups; Native American tribes; potentially affected landowners and other interested individuals and groups; newspapers and libraries in the project area; and parties to this proceeding. Paper copy versions of the Supplement to the draft EIS were mailed to those specifically requesting them; all others received a CD version. In addition, the Supplemental draft EIS is available for public viewing on the FERC's Web site (www.ferc.gov) using the eLibrary link. A limited number of copies are available for distribution and public inspection at: Federal Energy Regulatory Commission, Public Reference Room, 888 First Street NE., Room 2A, Washington, DC 20426, (202) 502-8371.

¹ “We,” “us,” and “our” refer to the environmental staff of the FERC's Office of Energy Projects.

Any person wishing to comment on the Supplemental draft EIS may do so. If you previously filed comments on the 2009 draft EIS, it is not necessary to re-submit them. All the comments on the 2009 draft EIS, along with any comments on the Supplemental draft EIS, will be addressed in the final EIS. To ensure consideration of your comments on the Supplemental draft EIS, it is important that the Commission receive your comments before May 20, 2013.

For your convenience, there are three methods you can use to submit your comments to the Commission. In all instances, please reference the project docket number (CP07-52-000) with your submission. The Commission encourages electronic filing of comments and has expert staff available to assist you at (202) 502-8258 or efiling@ferc.gov.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address: Kimberly D. Bose, Secretary, Federal Energy Regulatory Commission, 888 First Street NE., Room 1A, Washington, DC 20426.

Any person seeking to become a party to the proceeding must file a motion to intervene pursuant to Rule 214 of the Commission's Rules of Practice and Procedures (18 CFR 385.214).² Only intervenors have the right to seek rehearing of the Commission's decision. The Commission grants affected landowners and others with environmental concerns intervenor status upon showing good cause by stating that they have a clear and direct interest in this proceeding which no other party can adequately represent. Simply filing environmental comments will not give you intervenor status, but you do not need intervenor status to have your comments considered.

² See the previous discussion on the methods for filing comments. If you have previously filed a motion to intervene in the proceeding, it is not necessary to re-submit an additional request.

Questions?

Additional information about the project is available from the Commission's Office of External Affairs, at (866) 208-FERC, or on the FERC (www.ferc.gov) using the eLibrary link. Click on the eLibrary link, click on “General Search,” and enter the docket number excluding the last three digits in the Docket Number field (i.e., CP07-52). Be sure you have selected an appropriate date range. For assistance, please contact FERC Online Support at FercOnline_Support@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/esubscribenow.htm.

Dated: March 28, 2013.
Kimberly D. Bose,
Secretary.

[FR Doc. 2013-07795 Filed 4-3-13; 8:45 am]

BILLING CODE 6717-01-P